FEDERAL COMMUNICATIONS COMMISSION

47 CFR Part 73

[MB Docket No. 23-279; RM-11956; DA 23-703; FR ID 165046]

Television Broadcasting Services Tulare, California

AGENCY: Federal Communications Commission.

ACTION: Proposed rule.

SUMMARY: The Commission has before it a petition for rulemaking filed by One Ministries, Inc. (Petitioner), requesting the allotment of reserved noncommercial educational (NCE) channel *3 to Tulare, California as the community's first local television service.

DATES: Comments must be filed on or before September 21, 2023 and reply comments on or before October 6, 2023.

ADDRESSES: Federal Communications Commission, Office of the Secretary, 45 L Street NE, Washington, DC 20554. In addition to filing comments with the FCC, interested parties should serve counsel for the Petitioner as follows: James L. Oyster, Esq., 108 Oyster Lane, Castleton, Virginia 22716.

FOR FURTHER INFORMATION CONTACT: Joyce Bernstein, Media Bureau, at (202) 418-1647; or Joyce Bernstein, Media Bureau, at Joyce.Bernstein@fcc.gov.

SUPPLEMENTARY INFORMATION: The Petitioner contends that Tulare is a community deserving of a new television broadcast service. In support, the Petitioner states that Tulare, with a 2020 population of 70,733 was founded in 1872 by the Southern Pacific Railroad and is in the heart of agricultural San Joaquin Valley, halfway between Los Angeles and San Francisco.

Tulare is known for its agricultural production and home to the nation's largest single-site dairy complex. The Petitioner further states that Tulare has a mayor and five council members; police, public works, planning, engineering, and community and economic development departments; a library, school district, and numerous businesses and places of worship. The Petitioner states its intention to file an application for channel *3, if allotted, and take all necessary steps to obtain a construction permit. The proposed amendment to the Table of TV Allotments warrants consideration. The Petitioner's proposal would result in a first local service to Tulare under Priority (2) of the Commission's television allotment priority standard. The Petitioner demonstrates, and a Bureau staff engineering analysis confirms, that channel *3 can be allotted to Tulare, California, consistent with the minimum geographic spacing requirements for new allotments in section 73.623(d) of the Commission's.

This is a synopsis of the Commission's Notice of Proposed Rulemaking, MB Docket No. 23-279; RM-11956; DA 23-703, adopted August 16, 2023, and released August 16, 2023. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a). See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. Amend § 73.622, by adding in the table in paragraph (j), under California, in alphabetical order the entry for “Tulare” to read as follows:

§ 73.622 Digital television table of allotments.

* * * * *

(j) * * *

Community | Channel No.
* * * * *
California
* * * * *
Tulare | * 3
* * * * *

[FR Doc. 2023-18025 Filed 8-21-23; 8:45 am]

BILLING CODE 6712-01-P